DEPARTMENT OF DEFENSE

Department of the Navy

[Docket No. USN-2008-0011]

Proposed Collection; Comment Request

AGENCY: Department of the Navy, DoD.

ACTION: Notice.

In compliance with Section 3506(c)(2)(A) of the Paperwork Reduction Act of 1995, the Naval Health Research Center, (NHRC), Department of the Navy announces a new proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by May 5, 2008.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to Commanding Officer, Naval Health Research Center, ATTN: Suzanne Hurtado, MPH, Code 163, 140 Sylvester Road, San Diego, CA 92106, or call at (619) 553-7806 (this is not a toll-free number).

Title and OMB Number: Evaluation of Young Marines Drug Education Program; OMB Control Number 0703-TBD.

Needs and Uses: The information collection requirement is necessary for the Naval Health Research Center to carry out the research study it has been tasked to perform. This research study will assess the effectiveness of a Marine Corps-sponsored youth development program, the Young Marines, in reducing drug use and promoting a healthy, drug-free lifestyle among its youth participants. The information collected will be used to describe how the program is affecting drug behaviors and related measures and will allow recommendations to be made to improve youth drug education. Respondents to this study will include youth, approximately ages 11 through 18 years, in the Young Marines program and Young Marine adult leaders.

Affected Public: Young Marines program participants and Young Marines adult leaders.

Annual Burden Hours: 1,046.

Number of Respondents: 1,325.

Responses per Respondent: 1 for most youth and all of the adult leaders; 2 for a subset of 250 youth.

Average Burden per Response: 45 minutes for youth; 20 minutes for adults.

Frequency: On occasion.

SUPPLEMENTARY INFORMATION:

Summary of Information Collection

This information collection is necessary for the Naval Health Research Center (NHRC) to carry out the research study “Evaluation of Young Marines Drug Education Program.” Naval Health Research Center has been tasked by U.S. Marine Corps Community Services Substance Abuse Program to conduct this evaluation. The Naval Health Research Center team will collect information about the youth's drug use, attitudes, and knowledge, as well as factors such as self-esteem by administering a voluntary paper-and-pencil survey to approximately 1,000 youth at regularly scheduled Young Marines meetings and by posting an online survey. Approximately 250 of these youth subjects will also complete an online, follow-up survey about three months later. Approximately 325 Young Marine adult unit leaders will be asked to complete a one-time, online survey about the drug education activities that their unit provides to their Program members. In all cases, consent will always be received prior to survey administration. The information collected will be used to describe how the Young Marines program is affecting drug behaviors and related measures and will allow recommendations to be made to improve youth drug education.

Dated: February 25, 2008.
Patricia L. Toppings,
Alternate OSD Federal Register, Liaison Officer, Department of Defense.

[FR Doc. E8-4395 Filed 3-5-08; 8:45 am]

BILLING CODE 5001-06-P